ENVIRONMENTAL PROTECTION AGENCY

[ER-FRL-8596-5]

Environmental Impacts Statements; Notice of Availability

Responsible Agency: Office of Federal Activities, General Information (202) 564-1399 or http://www.epa.gov/compliance/nepa/.

Weekly receipt of Environmental Impact Statements Filed 08/10/2009 through 08/14/2009

Pursuant to 40 CFR 1506.9.

Special Notice: EPA's Notice of Availability for EIS's filed August 3, 2009 through August 7, 2009 scheduled to appear in the Federal Register on August 14, 2009 were published on Monday, August 17, 2009. Comment periods and wait periods will be calculated from August 17, 2009; see Amended Notices below.

EIS No. 20090285, Draft EIS, NPS, CA, Warner Valley Comprehensive Site Plan, Addressing Natural and Cultural Resource Conflicts, Parking and Circulation Improvements in Warner Valley, Implementation, Lassen Volcanic National Park, Plumas County, CA, Comment Period Ends: 11/21/2009, Contact: Louise Johnson 530-595-4444 ext. 5170.

EIS No. 20090286, Draft EIS, NPS, FL, Biscayne National Park Fishery Management Plan, Improvement of the Status of Fisheries Resources, Implementation, Miami-Dade County, FL, Comment Period Ends: 10/06/2009, Contact: Mark Lewis 305-230-1144 ext. 3003.

EIS No. 20090287, Draft EIS, AFS, CO, Willow Creek Pass Fuel Reduction Project, Implementation, Hahns Peak/Bear Ears Ranger District, Medicine Bow-Routt National Forests, Routt County, CO, Comment Period Ends: 10/05/2009, Contact: Brian Waugh 970-870-2185.

EIS No. 20090288, Final EIS, COE, CA, Natomas Levee Improvement Program, Phase 3 Landside Improvements Project, Issuance of Section 408 and 404 Permits, Sacramento and Sutter Counties, CA, Wait Period Ends: 09/21/2009, Contact: Elizabeth Holland 916-557-6763.

EIS No. 20090289, Final EIS, FTA, CO, Gold Line Corridor Project, Development of Fixed-Guideway Transit Improvements, from Denver Union Station to Ward Road in Wheat Ridge, Implementation, City and County of Denver, Adams, Arvada, Wheat Ridge, and Jefferson Counties, CO, Wait Period Ends: 09/21/2009, Contact: David Beckhouse 720-963-3306.

EIS No. 20090290, Draft EIS, FTA, WI, Kenosha-Racine-Milwaukee Commuter Rail Extension, Alternative Analysis, U.S. COE Section 404 Permit, Funding, Kenosha, Racine, and Milwaukee Counties, WI, Comment Period Ends: 10/05/2009, Contact: Stewart McKenzie 312-353-2866.

EIS No. 20090291, Final EIS, SFW, NV, Desert National Wildlife Refuge Complex, Ash Meadows, Desert, Moapa Valley and Pahranagat National Wildlife Refuges, Comprehensive Conservation Plan, Implementation, Clark, Lincoln, and Nye Counties, NV, Wait Period Ends: 09/21/2009, Contact: Cynthia Martinez 702-515-5450.

EIS No. 20090292, Final EIS, USA, CA, Camp Parks Real Property Master Plan and Real Property Exchange, Redevelopment of the Cantonment Area, NPDES Permit, U.S. COE Section 4040 Permit, Alamada and Contra Costa Counties, CA, Wait Period Ends: 09/21/2009, Contact: Jennifer Shore 703 602-4238.

Amended Notices

EIS No. 20090275, Final EIS, FHW, KY, I-65 to U.S. 31 W Access Improvement Project, To Meet the Existing and Future Transportation Demand, in northeast Bowling Green, Warren County, KY, Wait Period Ends: 09/16/2009, Contact: Jose Sepulveda 502-223-6764.

EIS No. 20090276, Final Supplement, COE, WA, Commencement Bay “Reauthorization” of Dredged Material Management Program Disposal Site, Implementation, Central Puget Sound, Tacoma, WA, Wait Period Ends: 09/16/2009, Contact: Dr. Stephen Martin 206-764-3631.

EIS No. 20090277, Draft EIS, AFS, CO, Hermosa Park/Mitchell Lakes Land Exchange Project, Proposed Land Exchange between Federal and Non-Federal Lands, Implementation, Federal Land in LaPlata County and Non-Federal Land in San Juan County, CO, Comment Period Ends: 10/01/2009, Contact: Cindy Hockelberg 970-884-1418.

EIS No. 20090278, Draft Supplement, FHW, NH, I-93 Highway Improvements, from Massachusetts State Line to Manchester, NH, Funding, NPDES and and U.S. Army COE Section 404 Permits Issuance, Hillsborough and Rockingham Counties, NH, Comment Period Ends: 10/01/2009, Contact: Jamison S. Sikora 603-228-3057 Ext. 107.

EIS No. 20090279, Draft EIS, BLM, WA, Blackfoot Bridge Mine Project, Developing Three Mine Pits, Haul Roads, Water Management Structures, and Overburden Disposal Areas, Implementation, Caribou County, ID, Comment Period Ends: 10/01/2009, Contact: Kyle Free 208-478-6368.

EIS No. 20090280, Draft Supplement, FHW, TN, Shelby Avenue/Demonbreun Street (Gateway Boulevard Corridor, from I-65 North [I-24 West] to I-40 West in Downtown Nashville, To Address Transportation needs in the Study Area. Davidson County, TN, Comment Period Ends: 10/01/2009, Contact: Charles O'Neill 615-781-5770.

EIS No. 20090281, Final EIS, BLM, WY, South Gillette Area Coal Lease Applications, WYW172585, WYW173360, WYW172657, WYW161248, Proposal to Lease Four Tracts of Federal Coal Reserves, Belle Ayr, Coal Creek, Caballo, and Cordero Rojo Mines, Wyoming Powder River Basin, Campbell County, WY, Wait Period Ends: 09/16/2009, Contact: Teresa Johnson 307-261-7510.

EIS No. 20090282, Final EIS, FRC, VA, Smith Mountain Pumped Storage Project (FERC No. 2210-169). Application for Hydropower License to continue Operating the 636-megawatt Pumped Storage Project, Roanoke River, Smith Mountain Pumped Storage Project (FERC No. 2210-169). Application for Hydropower License to continue Operating the 636-megawatt Pumped Storage Project, Roanoke River, Bedford, Campbell, Franklin and Pittsylvania Counties, VA, Wait Period Ends: 09/16/2009, Contact: Julia Bovey 1-866-208-3372.

EIS No. 20090283, Draft EIS, NPS, WI, Apostle Islands National Lakeshore General Management Plan/Wilderness Management Plan, Implementation, Bayfield and Ashland Counties, WI, Comment Period Ends: 10/13/2009, Contact: Nick Chevance 402-661-1844.

EIS No. 20090284, Final EIS, ARD, WA, ADOPTION—White Pass Expansion Master Development Plan, Implementation, Naches Ranger District, Okanogan-Wenatchee National Forests and Cowlitz Valley Ranger District, Gifford Pinchot National Forest, Yakima and Lewis Counties, WA, Wait Period Ends: 09/16/2009, Contact: Frank Mancino 202-720-1827.

Dated: August 18, 2009.
Robert W. Hargrove,
Director, NEPA Compliance Division, Office of Federal Activities.

[FR Doc. E9-20200 Filed 8-20-09; 8:45 am]

BILLING CODE 6560-50-P